DEPARTMENT OF HEALTH AND HUMAN SERVICES

Administration for Children and Families

Proposed Information Collection Activity; Community Services Block Grant (CSBG) Model State Plan Applications (Office of Management and Budget No. 0970-0382)

AGENCY: Office of Community Services, Administration for Children and Families, U.S. Department of Health and Human Services.

ACTION: Request for public comments.

SUMMARY: The Office of Community Services (OCS), Administration for Children and Families (ACF) requests a 3-year extension of the Community Services Block Grant (CSBG) State Plan, CSBG Eligible Entity Master List, and the American Customer Survey Index (ACSI) forms (OMB #0970-0382, expiration 8/31/2024). There are no changes requested to these information collections.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 676 of the CSBG Act requires states, including the District of Columbia and the Commonwealth of Puerto Rico, and U.S. territories applying for CSBG funds to submit an application and plan (CSBG State Plan). The CSBG State Plan must meet statutory requirements prior to OCS awarding CSBG grant recipients (states and territories) with CSBG funds. Grant recipients have the option to submit a detailed plan annually or biannually. Grant recipients that submit a biannual plan must provide an abbreviated plan the following year if substantial changes to the initial plan will occur. OCS is not requesting any changes to this form. As this will be the 11th year of submitting this form, OCS does not anticipate any additional burden.

OCS is also requesting to extend approval of the following information collections, with no changes proposed:

• CSBG Eligible Entity List. In alignment with Federal requirements, OCS requests that all grant recipients continue to keep their CSBG Eligible Entity List current, to include maintaining an accurate listing of the CSBG sub-grant recipients (CSBG eligible entities) and current Unique Entity Identifier (UEI) for each recipient listed. This is in alignment with current policies and processes, and therefore OCS does not anticipate any additional burden.

• Optional survey for the sub-grant recipients (or CSBG-eligible entities). The American Customer Survey Index (ACSI) is administered biennially. OCS uses the ACSI survey for eligible entities as part of the CSBG performance management framework. The survey focuses on the customer service that the CSBG sub-grant recipients receive from the CSBG grant recipients. The survey is optional, and this will be the seventh time that CSBG sub-grant recipients have the option to complete the survey. There were no revisions to the survey.

OCS anticipates submitting a subsequent revision to this information collection, pending OMB review and approval of a separate but related information collection request (CSBG Annual Report, OMB No. 0970-0492) that is scheduled to publish on April 22, 2024 (see https://www.federalregister.gov/d/2024-08549) and may result in minor updates to some of these materials.

Respondents: State governments, including the District of Columbia and the Commonwealth of Puerto Rico and U.S. territories, and local level sub-grant recipients.

Annual Burden Estimates
Instrument | Total number of respondents | Total number of responses per respondent | Average burden hours per response | Total burden hours | Annual burden hours
CSBG State Plan | 56 | 3 | 28 | 4,704 | 1,568
CSBG Eligible Entity List | 56 | 3 | 1 | 168 | 56
Estimated Total Annual Burden Hours for CSBG Grant Recipients | 1,624
CSBG ACSI Survey of CSBG Eligible Entities | 1000 | 2 | .15 | 300 | 150
Estimated Total Annual Burden Hours for CSBG sub-grant recipients | 150
Estimated Total Annual Burden Hours for All Respondents | 1774

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 676, Public Law 105-285, 112 Stat. 2735 (42 U.S.C. 9908)

Mary C. Jones,
ACF/OPRE Certifying Officer.

[FR Doc. 2024-08732 Filed 4-23-24; 8:45 am]

BILLING CODE 4184-27-P